DEPARTMENT OF AGRICULTURE

Agricultural Marketing Service

[Doc No. AMS-SC-16-0043; SC16-033-1]

Notice of Request for Renewal of a Recordkeeping Burden

AGENCY: Agricultural Marketing Service, USDA.

ACTION: Notice and request for comments.

SUMMARY: In accordance with the Paperwork Reduction Act of 1995 (44 U.S.C. Chapter 35), this notice announces the Agricultural Marketing Service's (AMS) intention to request for renewal a recordkeeping burden for the information collection for the Export Fruit Acts covering exports of apples and grapes.

DATES: Comments on this notice are due by August 15, 2016 to be assured of consideration.

ADDITIONAL INFORMATION: Contact Andrew Hatch, Chief, Program Services Branch, Marketing Order and Agreement Division, Specialty Crops Program, AMS, USDA, 1400 Independence Avenue SW., STOP 0237, Room 1406-S, Washington, DC, 20250-0237; Telephone (202) 720-6862 or Email: andrew.hatch@ams.usda.gov.

Small businesses may request information on complying with this notice by contacting Antoinette Carter, Marketing Order and Agreement Division, Specialty Crops Program, AMS, USDA, 1400 Independence Avenue SW., STOP 0237, Washington, DC 20250-0237; Telephone: (202) 720-2491, Fax: (202) 720-8938, or Email: Antoinette.Carter@ams.usda.gov.

Comments: Comments should reference the document number and the date and page number of this issue of the Federal Register, and be mailed to the Docket Clerk, Specialty Crops Program, AMS, USDA, 1400 Independence Avenue SW., Room 1406-S, Washington, DC 20250-0237; Fax: (202) 720-8938); or submitted through the Internet at http://www.regulations.gov.

SUPPLEMENTARY INFORMATION: Title: Export Fruit Regulations—Export Apple Act (7 CFR part 33) and the Export Grape and Plum Act (7 CFR part 35).

OMB Number: 0581-0143.

Expiration Date of Approval: August 31, 2016.

Type of Request: Request for Renewal of a Recordkeeping Burden.

Abstract: Fresh apples and grapes grown in the United States shipped to any foreign destination must meet minimum quality and other requirements established by regulations issued under the Export Apple Act (7 U.S.C. 581-590) and the Export Grape and Plum Act (7 U.S.C. 591-599) (Acts), which are found respectively at 7 CFR parts 33 and 35. Both Acts were designed to promote foreign trade in the export of apples, grapes and plums grown in the United States; to protect the reputation of the American-grown commodities; and to prevent deception or misrepresentation of the quality of such products moving in foreign commerce. The Acts have been in effect since 1933 (apples) and 1960 (grapes). Currently, plums are not regulated under the Export Grape and Plum Act.

The Secretary of Agriculture is authorized to oversee the implementation of the Acts and issue regulations regarding that activity. Regulations issued under the Acts cover exports of fresh apples and grapes grown in the United States and shipped to foreign destinations, with the exception of grapes shipped to Canada or Mexico and apples in bulk bins shipped to Canada. Certain limited quantity provisions may exempt some shipments from this information collection. Regulations issued under the Acts (7 CFR 33.11 for apples, and § 35.12 for grapes) require that the U.S. Department of Agriculture (USDA) officially inspect and certify that each export shipment of fresh apples and grapes is in compliance with quality and shipping requirements effective under the Acts.

The information collection requirements in this request are essential to carry out the intent and administration of the Acts. The currently approved collection under OMB No. 0581-0143 authorizes the use of an Export Form Certificate. Federal or Federal-State Inspection Program (FSIP) inspectors use the Export Form Certificate (FV-207) to certify inspection of the shipment for exports bound for non-Canadian destinations. The completed FV-207 is issued to the shipper. The shipper provides the carrier with the completed certificate to verify compliance with the Acts. Under the current regulations issued under the Acts, the carrier is required to maintain the certificates for no less than three (3) years. The information collection requirements in this request impose only the minimum burden necessary to effectively administer the Acts. The information collection burden for this action is primarily in the form of recordkeeping; the certificates are not filed with USDA.

USDA intends to update the text of the FV-207 to expand its scope to include inspection certificates for export shipments bound for Canadian destinations and rename it FV-205. Shipper and carriers do not complete the FV-207; they are only required to maintain the completed FV-207 record. USDA proposes a decrease to the time required to complete this information collection from 15 minutes per response to 5 minutes per response to complete the related recordkeeping actions of the shipper delivering a copy of the certificate to the carrier and the carrier keeping the certificate on file for not less than 3 years.

In the last renewal of the collection in 2013, there were inaccurate calculations related to the burden. The last renewal of the collection in 2013 reported that 102 respondents (68 shippers and 15 carriers for exported apples, and 14 shippers and 5 carriers for exported grapes) used FV-207 for an estimated one response per respondent. This suggested that there were only 102 FV-207 certificates issued. However, USDA's Foreign Agricultural Service estimates that, for the five-year period 2011-2015, the average number of export apple and grape shipments requiring inspection per year was 42,326 for apples and 10,462 for grapes, for a total five-year average of 52,788 certificates per year that would need to be maintained. Current industry data indicates a decrease in the recordkeepers from 102 to 94, as there is a reduction in the estimated number of export apple shippers (from 68 to 60) but no changes in the estimated number of export grape shippers (14), or carriers of export apples (15) and grapes (5). In this renewal of the collection in 2016, USDA will update the calculation to reflect an estimated 564 responses per recordkeeper for apples, which is approximately the 42,326 certificates divided by the 75 apple shippers and carriers, and an estimated 550 responses per recordkeeper for grapes, which is approximately the 10,462 certificates divided by the 19 grape shippers and carriers. USDA calculates the estimated total annual burden on respondents would change from the inaccurate 25 hours to the more accurate 4381 hours estimate.

Estimate of Burden: Public recordkeeping burden for this collection of information is estimated to average 0.083 hours per response.

Respondents (Recordkeepers): Apple and grape export shippers and carriers.

Estimated Number of Recordkeepers: 94 (75 shippers and carriers of exported apples and 19 shippers and carriers of exported grapes).

Estimated Total Annual Responses: 52,788.

Estimated Number of Responses per Recordkeeper: 564 for apples and 550 for grapes.

Estimated Total Annual Burden on Recordkeepers: 4381 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will also become a matter of public record. All comments received will be available for public inspection at the street address in the “Comment” section and can be viewed at: www.regulations.gov.

Dated: June 8, 2016.
Elanor Starmer,
Administrator, Agricultural Marketing Service.

[FR Doc. 2016-14007 Filed 6-13-16; 8:45 am]

BILLING CODE 3410-02-P